DEPARTMENT OF THE TREASURY

Office of Foreign Assets Control

Unblocking of Specially Designated Nationals and Blocked Persons Pursuant to the Foreign Narcotics Kingpin Designation Act

AGENCY: Office of Foreign Assets Control, Treasury.

ACTION: Notice.

SUMMARY: The Department of the Treasury's Office of Foreign Assets Control (OFAC) is publishing the names of five individuals and one entity whose property and interests in property have been unblocked pursuant to the Foreign Narcotics Kingpin Designation Act (Kingpin Act) (21 U.S.C. 1901-1908, 8 U.S.C. 1182). Additionally, OFAC is publishing an update to the name of one individual currently included in the list of Specially Designated Nationals and Blocked Persons (SDN List).

DATES: The unblocking and removal from the SDN List of the individuals and entity identified in this notice whose property and interests in property were blocked pursuant to the Kingpin Act, is effective on April 28, 2015. Additionally, the update to the SDN List of the individual identified in this notice is also effective on April 28, 2015.

FOR FURTHER INFORMATION CONTACT: Assistant Director, Sanctions Compliance & Evaluation, Department of the Treasury, Office of Foreign Assets Control, Washington, DC 20220, Tel: (202) 622-2420.

SUPPLEMENTARY INFORMATION:

Electronic and Facsimile Availability

This document and additional information concerning OFAC are available from OFAC's Web site at www.treasury.gov/ofac or via facsimile through a 24-hour fax-on demand service at (202) 622-0077.

Background

On December 3, 1999, the Kingpin Act was signed into law by the President of the United States. The Kingpin Act provides a statutory framework for the President to impose sanctions against significant foreign narcotics traffickers and their organizations on a worldwide basis, with the objective of denying their businesses and agents access to the U.S. financial system and to the benefits of trade and transactions involving U.S. persons and entities.

The Kingpin Act blocks all property and interests in property, subject to U.S. jurisdiction, owned or controlled by significant foreign narcotics traffickers as identified by the President. In addition, the Secretary of the Treasury consults with the Attorney General, the Director of the Central Intelligence Agency, the Director of the Federal Bureau of Investigation, the Administrator of the Drug Enforcement Administration, the Secretary of Defense, the Secretary of State, and the Secretary of Homeland Security when designating and blocking the property or interests in property, subject to U.S. jurisdiction, of persons or entities found to be: (1) Materially assisting in, or providing financial or technological support for or to, or providing goods or services in support of, the international narcotics trafficking activities of a person designated pursuant to the Kingpin Act; (2) owned, controlled, or directed by, or acting for or on behalf of, a person designated pursuant to the Kingpin Act; and/or (3) playing a significant role in international narcotics trafficking.

On April 28, 2015, the Associate Director of the Office of Global Targeting removed from the SDN List the individuals and entity listed below, whose property and interests in property were blocked pursuant to the Kingpin Act: Individuals:

1. FONTES MORENO, Eleazar, c/o AGRICOLA GAXIOLA S.A. DE C.V., Hermosillo, Sonora, Mexico; c/o TEMPLE DEL PITIC S.A. DE C.V., Hermosillo, Sonora, Mexico; Avenida Serdan No. 122 Poniente, Altos 10, Hermosillo, Sonora, Mexico; Ave. Real 73, Hermosillo, Sonora 83200, Mexico; DOB 23 Jul 1947; POB Hermosillo, Sonora, Mexico; nationality Mexico; citizen Mexico; Passport 260057687 (Mexico); C.U.R.P. FOME470723HSRNRL05 (Mexico) (individual) [SDNTK].

2. CANAVAL LANDAZURI, Enrique Antonio, c/o VUELA PERU S.A.C., Lima, Peru; c/o ASOCIACION CIVIL LOS PROMOTORES AERONAUTICOS, Lima, Peru; Avenida Pedro Venturo 687, URB Higuereta, Lima, Peru; DOB 06 Jan 1953; LE Number 07790775 (Peru) (individual) [SDNTK].

3. CASTANO GIL, Hector; DOB 24 Mar 1959; POB Amalfi, Antioquia, Colombia; Cedula No. 3371328 (Colombia) (individual) [SDNTK].

4. GUBEREK GRIMBERG, Arieh, Bogota, Colombia; DOB 17 Sep 1959; POB Bogota, Colombia; Cedula No. 79149680 (Colombia) (individual) [SDNTK] (Linked To: SBT S.A.; Linked To: PROMESAS DEL FUTBOL COLOMBIANO S.A.; Linked To: COMERCIALIZADORA INTERNACIONAL ANDINA LIMITADA; Linked To: COLOMBO PERUANA DE TEJIDOS S.A.; Linked To: COMPANIA REAL DE PANAMA S.A.; Linked To: GUBEREK GRIMBERG E HIJOS Y CIA. S. EN C.).

5. HERNANDEZ SAN MARTIN, Ricardo Arturo, c/o AVIANDINA S.A.C., Lima, Peru; c/o PERU GLOBAL TOURS S.A.C., Lima, Peru; Calle Huancavelica 270, URB Santa Patricia, Lima, Peru; DOB 04 Jul 1955; LE Number 10321329 (Peru) (individual) [SDNTK].

Entity

1. CARTRONIC GROUP PERU S.A.C., Lima, Peru; RUC # 20544359160 (Peru) [SDNTK].

Additionally on April 28, 2015, the Associate Director of the Office of Global Targeting updated the SDN record for the individual listed below, whose property and interests in property continue to be blocked pursuant to the Kingpin Act:

Individual

1. CALLE QUIROS, Luis Santiago, Madrid, Spain; Lima, Peru; DOB 22 Jul 1965; POB Madrid, Spain; citizen Spain; alt. citizen Peru; D.N.I. 01927713-Z (Spain); alt. D.N.I. 10831176-8 (Peru) (individual) [SDNTK] (Linked To: TEXTIMAX SPAIN S.L.; Linked To: CASTIZAL MADRILENA S.L.; Linked To: INMOBILIARIA CASTIZAL S.A.C.; Linked To: UCALSA PERU S.A.).

Dated: April 28, 2015.
Gregory T. Gatjanis,
Associate Director, Office of Global Targeting, Office of Foreign Assets Control.

[FR Doc. 2015-10459 Filed 5-4-15; 8:45 am]

BILLING CODE 4810-AL-P